SUSQUEHANNA RIVER BASIN COMMISSION

Actions Taken at March 6, 2014, Meeting

AGENCY: Susquehanna River Basin Commission.

ACTION: Notice.

SUMMARY: As part of its regular business meeting held on March 6, 2014, in Harrisburg, Pennsylvania, the Commission took the following actions: (1) Approved or tabled the applications of certain water resources projects; (2) accepted settlements in lieu of penalty from Inflection Energy, LLC and Talisman Energy USA; and (3) took additional actions, as set forth in the Supplementary Information below.

DATES: March 6, 2014.

ADDRESSES: Susquehanna River Basin Commission, 4423 N. Front Street, Harrisburg, PA 17110-1788.

FOR FURTHER INFORMATION CONTACT: Richard A. Cairo, General Counsel, telephone: (717) 238-0423, ext. 1306; fax: (717) 238-2436; email: rcairo@srbc.net. Regular mail inquiries may be sent to the above address. See also Commission Web site at www.srbc.net.

SUPPLEMENTARY INFORMATION: In addition to the actions taken on projects identified in the summary above and the listings below, the following items were also presented or acted upon at the business meeting: (1) An informational presentation from Pennsylvania Fish & Boat Commission biologist Josh Tryninewski on efforts to restore migratory fish passage on the lower Susquehanna River; (2) approval of a rulemaking action to revise emergency water use provisions; (3) authorization to execute a memorandum of understanding with the New York State Department of Environmental Conservation regarding coordination of project review; (4) adoption of a final, revised FY-2015 budget; (5) ratification of a settlement agreement pertaining to Federal Energy Regulatory Commission (FERC) licensing of York Haven Hydroelectric project and authorization for Commission Executive Director to execute additional contemplated settlement agreements under FERC licensing procedures; (6) extension of an emergency certificate issued to the Pennsylvania Department of Environmental Protection; and (7) approval/ratification of two grants, one contract, and one agreement.

Compliance Matters

The Commission approved settlements in lieu of civil penalty for the following projects:

1. Inflection Energy, LLC., Montoursville Borough Public Water Supply System, Montoursville Borough, Lycoming County, Pa.—$14,500.

2. Talisman Energy USA (Wappasening Creek), Windham Township, Bradford County, Pa.—$2,250.

Project Applications Approved

The Commission approved the following project applications:

1. Project Sponsor and Facility: Aqua Infrastructure, LLC (Tioga River), Hamilton Township, Tioga County, Pa. Surface water withdrawal of up to 1.500 mgd (peak day).

2. Project Sponsor and Facility: Chesapeake Appalachia, LLC (Susquehanna River), Great Bend Township, Susquehanna County, Pa. Renewal of surface water withdrawal of up to 0.750 mgd (peak day) (Docket No. 20091201).

3. Project Sponsor and Facility: Keystone Clearwater Solutions, LLC (Lycoming Creek), Lewis Township, Lycoming County, Pa. Modification to low flow protection requirements and authorization of additional water uses of the surface water withdrawal approval (Docket No. 20110616).

4. Project Sponsor and Facility: Manheim Borough Authority, Manheim Borough, Lancaster County, Pa. Renewal of groundwater withdrawal of up to 0.936 mgd (30-day average) from Well 4 (Docket No. 19830903).

5. Project Sponsor and Facility: Martinsburg Municipal Authority, North Woodbury Township, Blair County, Pa. Groundwater withdrawal of up to 0.288 mgd (30-day average) from Wineland Replacement Well 2.

6. Project Sponsor: Old Dominion Electric Cooperative. Project Facility: Rock Springs Expansion, Rising Sun District, Cecil County, Md. Consumptive water use of up to 7.900 mgd (peak day).

7. Project Sponsor and Facility: Old Dominion Electric Cooperative (Susquehanna River), Fulton Township, Lancaster County, Pa. Surface water withdrawal of up to 8.700 mgd (peak day).

8. Project Sponsor and Facility: Seneca Resources Corporation (Arnot No. 5 Mine Discharge), Bloss Township, Tioga County, Pa. Renewal of surface water withdrawal of up to 0.499 mgd (peak day) (Docket No. 20090908).

9. Project Sponsor and Facility: SWEPI LP (Susquehanna River), Sheshequin Township, Bradford County, Pa. Renewal of surface water withdrawal of up to 0.850 mgd (peak day) (Docket No. 20091202).

10. Project Sponsor and Facility: Talisman Energy USA Inc. (Fall Brook—C.O.P. Tioga State Forest), Ward Township, Tioga County, Pa. Renewal of surface water withdrawal of up to 0.999 mgd (peak day) (Docket No. 20091204).

11. Project Sponsor and Facility: Talisman Energy USA Inc. (Fellows Creek—C.O.P. Tioga State Forest), Ward Township, Tioga County, Pa. Renewal of surface water withdrawal of up to 0.999 mgd (peak day) (Docket No. 20091205).

12. Project Sponsor and Facility: XTO Energy, Inc. (Little Muncy Creek), Moreland Township, Lycoming County, Pa. Renewal of surface water withdrawal of up to 0.249 mgd (peak day) (Docket No. 20100313).

Project Applications Tabled

The Commission tabled action on the following project applications:

1. Project Sponsor and Facility: DS Waters of America, Inc., Clay Township, Lancaster County, Pa. Application for renewal of groundwater withdrawal of up to 0.115 mgd (30-day average) from Well 6 (Docket No. 20000203).

2. Project Sponsor and Facility: Jay Township Water Authority, Jay Township, Elk County, Pa. Application for groundwater withdrawal of up to 0.265 mgd (30-day average) from Brynedale Well #1.

3. Project Sponsor and Facility: Newport Borough Water Authority, Oliver Township, Perry County, Pa. Application for groundwater withdrawal of up to 0.162 mgd (30-day average) from Well 1.

4. Project Sponsor: Pennsylvania Department of Environmental Protection—South-central Regional Office, City of Harrisburg, Dauphin County, Pa. Facility Location: Leacock Township, Lancaster County, Pa. Application for groundwater withdrawal of up to 0.576 mgd (30-day average) from Stoltzfus Well.

5. Project Sponsor: Pennsylvania Department of Environmental Protection—South-central Regional Office, City of Harrisburg, Dauphin County, Pa. Facility Location: Leacock Township, Lancaster County, Pa. Application for groundwater withdrawal of up to 0.432 mgd (30-day average) from Township Well.

6. Project Sponsor and Facility: Pro-Environmental, LLC (Martins Creek), Lathrop Township, Susquehanna County, Pa. Application for surface water withdrawal of up to 0.999 mgd (peak day).

7. Project Sponsor and Facility: Susquehanna Gas Field Services, LLC (Susquehanna River), Meshoppen Township, Wyoming County, Pa. Application of surface water withdrawal of up to 2.000 mgd (peak day).

Authority: Public Law 91-575, 84 Stat. 1509 et seq., 18 CFR parts 806, 807, and 808.

Dated: March 17, 2014.
Stephanie L. Richardson,
Secretary to the Commission.

[FR Doc. 2014-06322 Filed 3-21-14; 8:45 am]

BILLING CODE 7040-01-P